ENVIRONMENTAL PROTECTION AGENCY

[EPA-HQ-RCRA-2015-0732; FRL-9943-60-OEI]

Information Collection Request Submitted to OMB for Review and Approval; Comment Request; Identification of Non-Hazardous Secondary Materials That Are Solid Waste (Renewal)

AGENCY: Environmental Protection Agency (EPA).

ACTION: Notice.

SUMMARY: The Environmental Protection Agency has submitted an information collection request (ICR), “Identification of Non-Hazardous Secondary Materials That Are Solid Waste (Renewal)” (EPA ICR No. 2382.04, OMB Control No. 2050-0205) to the Office of Management and Budget (OMB) for review and approval in accordance with the Paperwork Reduction Act (44 U.S.C. 3501 et seq.). This is a proposed extension of the ICR, which is currently approved through March 31, 2016. Public comments were previously requested via the Federal Register (80 FR 76482) on December 9, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 13, 2016.

ADDRESSES: Submit your comments, referencing Docket ID No. EPA-HQ-RCRA-2015-0732, to (1) EPA, either online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jesse Miller, Office of Resource Conservation and Recovery, Materials Recovery and Waste Management Division, MC 5302P, Environmental Protection Agency, 1200 Pennsylvania Ave. NW., Washington, DC 20460; telephone number: (703) 308-1180; fax number: (703) 308-0522; email address: miller.jesse@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: On March 21, 2011, EPA finalized standards and procedures to be used to identify whether non-hazardous secondary materials are solid wastes when used as fuels or ingredients in combustion units. “Secondary material” is defined as any material that is not the primary product of a manufacturing or commercial process, and can include post-consumer material, off-specification commercial chemical products or manufacturing chemical intermediates, post-industrial material, and scrap (codified in § 241.2). “Non-hazardous secondary material” is a secondary material that, when discarded, would not be identified as a hazardous waste under 40 CFR part 261 (codified in § 241.2). This RCRA solid waste definition determines whether a combustion unit is required to meet the emissions standards for solid waste incineration units issued under section 129 of the Clean Air Act (CAA) or the emissions standards for commercial, industrial, and institutional boilers issued under section 112 of the CAA. In this rule, EPA also finalized a definition of traditional fuels.

Form Numbers: None.

Respondents/affected entities: Private solid waste facilities.

Respondent's obligation to respond: Required to obtain benefit (Sections 1004 and 2002 of RCRA).

Estimated number of respondents: 1,471 (total).

Frequency of response: One-time.

Total estimated burden: 984 hours (per year). Burden is defined at 5 CFR 1320.03(b).

Total estimated cost: $108,068 (per year), which includes $1,343 annualized capital or operation & maintenance costs.

Changes in the Estimates: There is a decrease of 25,467 hours in the total estimated respondent burden compared with the ICR currently approved by OMB. This decrease is due to a revised estimate of the number of petitions expected to be submitted by the respondents.

Courtney Kerwin,
Acting Director, Collection Strategies Division.

[FR Doc. 2016-05646 Filed 3-11-16; 8:45 am]

BILLING CODE 6560-50-P